DEPARTMENT OF DEFENSE

Department of the Army, Corps of Engineers

Inland Waterways Users Board; Request for Nominations

AGENCY: Department of the Army, U.S. Army Corps of Engineers, DOD.

ACTION: Notice of request for nominations.

SUMMARY: The Department of the Army is publishing this notice to request nominations to serve as representatives on the Inland Waterways Users Board, sponsored by the U.S. Army Corps of Engineers. Section 302 of Public Law 99-662 established the Inland Waterways Users Board. The Board is an independent Federal advisory committee. The Secretary of the Army appoints its 11 (eleven) representative organizations. This notice is to solicit nominations for five (5) appointments for terms that will begin by May 28, 2021. For additional information about the Board, please visit the committee's website at http://www.iwr.usace.army.mil/Missions/Navigation/Inland-Waterways-Users-Board/.

ADDRESSES: Institute for Water Resources, U.S. Army Corps of Engineers, ATTN: Mr. Mark R. Pointon, Designated Federal Officer (DFO) for the Inland Waterways Users Board, CEIWR-GN, 7701 Telegraph Road, Casey Building, Alexandria, Virginia 22315-3868; by telephone at 703-428-6438; and by email at Mark.Pointon@usace.army.mil.

FOR FURTHER INFORMATION CONTACT: Alternatively, contact Mr. Steven D. Riley, the Alternate Designated Federal Officer (ADFO), in writing at the Institute for Water Resources, U.S. Army Corps of Engineers, ATTN: CEIWR-GW, 7701 Telegraph Road, Casey Building, Alexandria, VA 22315-3868; by telephone at 703-659-3097; and by email at Steven.D.Riley@usace.army.mil.

SUPPLEMENTARY INFORMATION: The selection, service, and appointment of representative organizations to the Board are covered by provisions of Section 302 of Public Law 99-662. The substance of those provisions is as follows:

a. Selection. Representative organizations are to be selected from the spectrum of commercial carriers and shippers using the inland and intracoastal waterways, to represent geographical regions, and to be representative of waterborne commerce as determined by commodity ton-miles and tonnage statistics.

b. Service. The Board is required to meet at least semi-annually to develop and make recommendations to the Secretary of the Army on waterways construction and major rehabilitation priorities and spending levels for commercial navigation improvements, and report its recommendations annually to the Secretary and Congress.

c. Appointment. The operation of the Board and appointment of representative organizations are subject to the Federal Advisory Committee Act of 1972 (5 U.S.C., Appendix, as amended) and departmental implementing regulations. Representative organizations serve without compensation but their expenses due to Board activities are reimbursable. The considerations specified in Section 302 for the selection of representative organizations to the Board, and certain terms used therein, have been interpreted, supplemented, or otherwise clarified as follows:

(1) Carriers and Shippers. The law uses the terms “primary users and shippers.” Primary users have been interpreted to mean the providers of transportation services on inland waterways such as barge or towboat operators. Shippers have been interpreted to mean the purchasers of such services for the movement of commodities they own or control. Representative companies are appointed to the Board, and they must be either a carrier or shipper or both. For that purpose a trade or regional association is neither a shipper nor primary user.

(2) Geographical Representation. The law specifies “various” regions. For the purposes of the Board, the waterways subjected to fuel taxes and described in Public Law 95-502, as amended, have been aggregated into six regions. They are (1) the Upper Mississippi River and its tributaries above the mouth of the Ohio; (2) the Lower Mississippi River and its tributaries below the mouth of the Ohio and above Baton Rouge; (3) the Ohio River and its tributaries; (4) the Gulf Intracoastal Waterway in Louisiana and Texas; (5) the Gulf Intracoastal Waterway east of New Orleans and associated fuel-taxed waterways including the Tennessee-Tombigbee, plus the Atlantic Intracoastal Waterway below Norfolk; and (6) the Columbia-Snake Rivers System and Upper Willamette. The intent is that each region shall be represented by at least one representative organization, with that representation determined by the regional concentration of the firm's traffic on the waterways.

(3) Commodity Representation. Waterway commerce has been aggregated into six commodity categories based on “inland” ton-miles shown in Waterborne Commerce of the United States. These categories are (1) Farm and Food Products; (2) Coal and Coke; (3) Petroleum, Crude and Products; (4) Minerals, Ores, and Primary Metals and Mineral Products; (5) Chemicals and Allied Products; and (6) All Other. A consideration in the selection of representative organizations to the Board will be that the commodities carried or shipped by those firms will be reasonably representative of the above commodity categories.

d. Nomination. Reflecting preceding selection criteria, the current representation by the five (5) organizations whose terms expire includes Regions 1, 3 and 4, representation of two carriers, two shippers and one of both, and commodity representation of Coal and Coke; Petroleum, Crude and Products; Chemicals and Allied Products; and Other.

Individuals, firms or associations may nominate representative organizations to serve on the Board. Nominations will:

(1) Include the commercial operations of the carrier and/or shipper representative organization being nominated. This commercial operations information will show the actual or estimated ton-miles of each commodity carried or shipped on the inland waterways system in the most recent year (or years), using the waterway regions and commodity categories previously listed.

(2) State the region(s) to be represented.

(3) State whether the nominated representative organization is a carrier, shipper or both.

(4) Provide the name of an individual to be the principle person representing the organization and information pertaining to their personal qualifications, to include a current biography or resume.

Previous nominations received in response to notices published in the Federal Register in prior years will not be retained for consideration. Re-nomination of representative organizations is required.

e. Deadline for Nominations. All nominations must be received at the address shown above no later than December 1, 2020.

Thomas P. Smith,
Chief, Operations and Regulatory Division, Directorate of Civil Works, U.S. Army Corp of Engineers.

[FR Doc. 2020-24197 Filed 10-30-20; 8:45 am]

BILLING CODE 3720-58-P